ENVIRONMENTAL PROTECTION AGENCY

40 CFR Part 52

[EPA-R08-OAR-2010-0909; FRL-9240-9]

Finding of Substantial Inadequacy of Implementation Plan; Call for Utah State Implementation Plan Revision

AGENCY: Environmental Protection Agency (EPA).

ACTION: Proposed rule; extension of the comment period.

SUMMARY: EPA is extending the comment period for a document published on November 19, 2010 (75 FR 70888). In the November 19, 2010 document, EPA proposed a finding that the Utah State Implementation Plan (SIP) is substantially inadequate to attain or maintain the national ambient air quality standards (NAAQS) or to otherwise comply with the requirements of the Clean Air Act (CAA), based on Utah's rule R307-107, which exempts emissions during unavoidable breakdowns from compliance with emission limitations. At the request of several commentors, EPA is extending the comment period through January 3, 2011.

DATES: Comments must be received on or before January 3, 2011.

ADDRESSES: Submit your comments, identified by Docket ID No. EPA-R08-OAR-2010-0909, by one of the following methods:

• http://www.regulations.gov. Follow the on-line instructions for submitting comments.

• E-mail: russ.tim@epa.gov.

• Fax: (303) 312-6064 (please alert the individual listed in FOR FURTHER INFORMATION CONTACT if you are faxing comments).

• Mail: Callie Videtich, Director, Air Program, Environmental Protection Agency (EPA), Region 8, Mailcode 8P-AR, 1595 Wynkoop St., Denver, Colorado 80202-1129.

• Hand Delivery: Callie Videtich, Director, Air Program, Environmental Protection Agency (EPA), Region 8, Mail Code 8P-AR, 1595 Wynkoop St., Denver, Colorado 80202-1129. Such deliveries are only accepted Monday through Friday, 8 a.m. to 4:30 p.m., excluding Federal holidays. Special arrangements should be made for deliveries of boxed information.

• For additional information on submitting comments, see the November 19, 2010 (75 FR 70888) proposed rule.

FOR FURTHER INFORMATION CONTACT: Tim Russ, Air Program, Mail Code 8P-AR, Environmental Protection Agency (EPA), Region 8, 1595 Wynkoop St., Denver, Colorado 80202-1129, phone (303) 312-6479, or e-mail russ.tim@epa.gov.

Dated: December 13, 2010.
Judith Wong,
Acting Regional Administrator, Region 8.

[FR Doc. 2010-31892 Filed 12-17-10; 8:45 am]

BILLING CODE 6560-50-P